DEPARTMENT OF ENERGY

Federal Energy Regulatory Commission

Combined Notice of Filings #1

Take notice that the Commission received the following electric corporate filings:

Docket Numbers: EC21-77-001.

Applicants: FirstEnergy Corp.

Description: FirstEnergy Corp. submits Notice of Non-Material Change in Fact.

Filed Date: 11/16/22.

Accession Number: 20221116-5167.

Comment Date: 5 p.m. ET 12/7/22.

Docket Numbers: EC23-28-000.

Applicants: Michigan Electric Transmission Company, LLC, ITC Interconnection LLC.

Description: Joint Application for Authorization Under Section 203 of the Federal Power Act of Michigan Electric Transmission Company, LLC, et al.

Filed Date: 11/16/22.

Accession Number: 20221116-5186.

Comment Date: 5 p.m. ET 12/7/22.

Take notice that the Commission received the following exempt wholesale generator filings:

Docket Numbers: EG23-24-000.

Applicants: Oak Solar, LLC.

Description: Oak Solar, LLC submits Notice of Self-Certification of Exempt Wholesale Generator Request.

Filed Date: 11/16/22.

Accession Number: 20221116-5183.

Comment Date: 5 p.m. ET 12/7/22.

Take notice that the Commission received the following electric rate filings:

Docket Numbers: ER10-1355-012.

Applicants: Southern California Edison Company.

Description: Errata to October 31, 2022, Notice of Change in Status of Southern California Edison Company.

Filed Date: 11/17/22.

Accession Number: 20221117-5123.

Comment Date: 5 p.m. ET 12/8/22.

Docket Numbers: ER21-762-001.

Applicants: Bishop Hill Energy II LLC.

Description: Midcontinent Independent System Operator, Inc. submits tariff filing per 35.19a(b): Refund Report_Bishop Hill Energy II LLC to be effective N/A.

Filed Date: 11/16/22.

Accession Number: 20221116-5165.

Comment Date: 5 p.m. ET 12/7/22.

Docket Numbers: ER21-2722-001.

Applicants: E. BarreCo Corp LLC.

Description: Refund Report: Second Revised Refund report to 2 to be effective N/A.

Filed Date: 11/17/22.

Accession Number: 20221117-5000.

Comment Date: 5 p.m. ET 12/8/22.

Docket Numbers: ER21-2816-000; ER21-2816-002; ER21-2816-003; ER21-2816-001.

Applicants: Gratiot County Wind LLC.

Description: Midcontinent Independent System Operator, Inc. submits tariff filing per 35.19a(b): Refund Report_Gratiot County Wind LLC to be effective N/A.

Filed Date: 11/16/22.

Accession Number: 20221116-5166.

Comment Date: 5 p.m. ET 12/7/22.

Docket Numbers: ER23-48-000.

Applicants: West Line Solar, LLC.

Description: Supplement to October 11, 2022, West Line Solar, LLC Application for Order Accepting Market-Based Rate under ER23-48.

Filed Date: 11/15/22.

Accession Number: 20221115-5225.

Comment Date: 5 p.m. ET 11/25/22.

Docket Numbers: ER23-114-000.

Applicants: ISO New England Inc.

Description: ISO New England Inc. submits Capital Budget Quarterly Filing for Third Quarter of 2022.

Filed Date: 10/14/22.

Accession Number: 20221014-5249.

Comment Date: 5 p.m. ET 12/8/22.

Docket Numbers: ER23-449-000.

Applicants: Shenandoah Hills Wind Project, LLC.

Description: Request for Prospective Tariff Waiver, et al. of Shenandoah Hills Wind Project, LLC.

Filed Date: 11/10/22.

Accession Number: 20221110-5282.

Comment Date: 5 p.m. ET 12/1/22.

Docket Numbers: ER23-450-000.

Applicants: Mercuria Energy America, LLC.

Description: Compliance filing: Compliance filing 2022 to be effective N/A.

Filed Date: 11/17/22.

Accession Number: 20221117-5002.

Comment Date: 5 p.m. ET 12/8/22.

Docket Numbers: ER23-451-000.

Applicants: TN Solar 1, LLC.

Description: Baseline eTariff Filing: TN Solar 1 MBR Application to be effective 11/18/2022.

Filed Date: 11/17/22.

Accession Number: 20221117-5087.

Comment Date: 5 p.m. ET 12/8/22.

Docket Numbers: ER23-452-000.

Applicants: EEC Skyhawk Lessee LLC.

Description: Baseline eTariff Filing: EEC Skyhawk Lessee MBR Application to be effective 12/31/9998.

Filed Date: 11/17/22.

Accession Number: 20221117-5089.

Comment Date: 5 p.m. ET 12/8/22.

Docket Numbers: ER23-453-000.

Applicants: PJM Interconnection, L.L.C.

Description: § 205(d) Rate Filing: Amendment to ISA, SA No. 5869; Queue No. AE2-126 (amend) to be effective 12/3/2020.

Filed Date: 11/17/22.

Accession Number: 20221117-5116.

Comment Date: 5 p.m. ET 12/8/22.

Docket Numbers: ER23-454-000.

Applicants: San Diego Gas & Electric Company.

Description: TO5 Formula Depreciation Rate Change for Common Plant and Electric General Plant of San Diego Gas & Electric Company.

Filed Date: 11/17/22.

Accession Number: 20221117-5125.

Comment Date: 5 p.m. ET 12/8/22.

Docket Numbers: ER23-455-000.

Applicants: New York Independent System Operator, Inc., Power Authority of the State of New York.

Description: § 205(d) Rate Filing: New York Independent System Operator, Inc. submits tariff filing per 35.13(a)(2)(iii): NYISO-NYPA Joint 205: LGIA NYISO, NYPA, North Side Solar SA2739—CEII to be effective 11/3/2022.

Filed Date: 11/17/22.

Accession Number: 20221117-5133.

Comment Date: 5 p.m. ET 12/8/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 17, 2022.
Debbie-Anne A. Reese,
Deputy Secretary.

[FR Doc. 2022-25598 Filed 11-22-22; 8:45 am]

BILLING CODE 6717-01-P